DEPARTMENT OF ENERGY

Federal Energy Regulatory Commission

[Docket No. ER13-1372-000]

California Independent System Operator Corporation; Notice of FERC Staff Attendance

The Federal Energy Regulatory Commission (Commission) hereby gives notice that on the following date members of its staff will participate in teleconferences and meetings to be conducted by the California Independent System Operator (CAISO). The agenda and other documents for the teleconferences and meetings are available on the CAISO's Web site, www.caiso.com.

June 6, 2013—Energy Imbalance Market.

Sponsored by the CAISO, the teleconferences and meetings are open to all market participants and staff's attendance is part of the Commission's ongoing outreach efforts. The teleconferences and meetings may discuss matters at issue in the above captioned docket.

For further information, contact Saeed Farrokhpay at saeed.farrokhpay@ferc.gov, (916) 294-0322 or Maury Kruth at maury.kruth@ferc.gov, (916) 294-0275.

Dated: May 30, 2013.
Kimberly D. Bose,
Secretary.

[FR Doc. 2013-13399 Filed 6-5-13; 8:45 am]

BILLING CODE 6717-01-P